DEPARTMENT OF JUSTICE

Notice of Lodging Proposed Consent Decree

In accordance with Departmental Policy, 28 CFR 50.7, notice is hereby given that a proposed Consent Decree in United States v. Jack Noble, Case No. 4:16-cv-06178-SBA, was lodged with the United States District Court for the Northern District of California on June 11, 2018.

This proposed Consent Decree concerns a complaint filed by the United States against Defendant Jack Noble, pursuant to Clean Water Act Section 301(a), 33 U.S.C. 1311(a), and Endangered Species Act Section 9, 16 U.S.C. 1528, to obtain injunctive relief from and impose civil penalties against the Defendant for violating these statutes by discharging pollutants without a permit into waters of the United States and taking protected species. The proposed Consent Decree resolves these allegations by requiring the Defendant to remove the offending material, restore the impacted areas, enhance fish habitat, and pay a civil penalty.

The Department of Justice will accept written comments relating to this proposed Consent Decree for thirty (30) days from the date of publication of this Notice. Please address comments to John Thomas H. Do, United States Department of Justice, Environment & Natural Resources Division, Post Office Box 7611, Washington, DC 20044-7611 and refer to United States v. Jack Noble, DJ # 90-5-1-1-20923.

The proposed Consent Decree may be examined at the Clerk's Office, United States District Court for the Northern District of California, 450 Golden Gate Avenue, San Francisco, CA 94102. In addition, the proposed Consent Decree may be examined electronically at http://www.justice.gov/enrd/Consent_Decrees.html.

Cherie L. Rogers,
Assistant Section Chief, Environmental Defense Section, Environment and Natural Resources Division.

[FR Doc. 2018-13056 Filed 6-18-18; 8:45 am]

BILLING CODE 4410-15-P